DEPARTMENT OF DEFENSE

Department of the Army

Performance Review Boards Membership

AGENCY: Department of the Army, DOD.

ACTION: Notice.

SUMMARY: This notice amends Performance Review Boards Membership, published November 25, 2002 (67 FR 70584), for the Department of the Army. The following name is added to the Performance Review Board for the U.S. Army Corps of Engineers (USACE): Mr. Thomas E. Caver, Principal Assistant for Civil Works, Directorate of Civil Works, Headquarters, USACE.

EFFECTIVE DATES: November 18, 2002.

FOR FURTHER INFORMATION CONTACT: Ms. Kate Mack, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

Luz D. Ortiz,
Army Federal Register Liaison Officer.

[FR Doc. 03-3247 Filed 2-7-03; 8:45 am]

BILLING CODE 3710-08-M